DEPARTMENT OF COMMERCE

National Oceanic and Atmospheric Administration

Approval of a Boundary Expansion for the Elkhorn Slough National Estuarine Research Reserve

AGENCY: Office for Coastal Management, National Ocean Service, National Oceanic and Atmospheric Administration, U.S. Department of Commerce.

ACTION: Notice of approval of boundary expansion and availability of a final environmental assessment; Finding of No Significant Impact.

SUMMARY: In accordance with applicable federal regulations, notice is hereby given that the National Oceanic and Atmospheric Administration (NOAA)'s Office for Coastal Management approved the final environmental assessment of a proposed boundary expansion for the Elkhorn Slough National Estuarine Research Reserve in Watsonville, California. NOAA determined that the boundary expansion would not have significant environmental impacts and, therefore, issued a Finding of No Significant Impact (FONSI). The final environmental assessment describes the alternatives considered, including the preferred alternative to add nine parcels to and remove one parcel from the existing approved boundary, which would result in a net increase of 299.773 acres in size to the boundary. NOAA prepared a draft environmental assessment to analyze the effects of the requested changes and solicited public comment before approving the request [84 FRN 57702]. The purpose of this notice is to inform the public of NOAA's approval of the boundary expansion and of the availability of the final environmental assessment.

ADDRESSES: The final environmental assessment and FONSI can be downloaded or viewed at https://coast.noaa.gov/czm/compliance/. The document is also available by sending a written request to the point of contact identified below (see FOR FURTHER INFORMATION CONTACT).

FOR FURTHER INFORMATION CONTACT: Elaine Vaudreuil of NOAA's Office for Coastal Management, by email at Elaine.Vaudreuil@noaa.gov, phone at 240-533-0821, or mail at: 1305 East-West Hwy., N/OCM, Silver Spring, MD 20910.

Authority: 16 U.S.C. 1451 et seq; 15 CFR 921.33.

Keelin S. Kuipers,
Deputy Director, Office for Coastal Management, National Ocean Service, National Oceanic and Atmospheric Administration.

[FR Doc. 2020-12223 Filed 6-4-20; 8:45 am]

BILLING CODE 3510-08-P